TENNESSEE VALLEY AUTHORITY

Environmental Impact Statement—Pickwick Reservoir Land Management Plan, Colbert and Lauderdale Counties, AL; Tishomingo County, MS; and Hardin County, TN

AGENCY: Tennessee Valley Authority (TVA).

ACTION: Notice of intent.

SUMMARY: This notice is provided in accordance with the Council on Environmental Quality's regulations (40 CFR parts 1500 to 1508) and TVA's procedures implementing the National Environmental Policy Act. TVA will prepare an Environmental Impact Statement (EIS) on alternatives for management of Pickwick Reservoir project lands in Colbert and Lauderdale Counties in Alabama, Tishomingo County in Mississippi, and Hardin County in Tennessee.

DATES: Comments on the scope of the EIS should be received by June 1, 2001.

ADDRESSES: Written comments should be sent to Jon M. Loney, Manager, NEPA Administration, Environmental Policy and Planning, Tennessee Valley Authority, 400 West Summit Hill Drive, Knoxville, Tennessee 37902-1499.

FOR FURTHER INFORMATION CONTACT: Harold M. Draper, NEPA Specialist, Environmental Policy and Planning, Tennessee Valley Authority, 400 West Summit Hill Drive, WT 8C, Knoxville, Tennessee 37902-1499; telephone (865) 632-6889 or e-mail hmdraper@tva.gov

SUPPLEMENTARY INFORMATION: Pickwick Reservoir is the fourth largest of 23 multipurpose reservoirs operated by TVA for navigation, flood control, power production, recreation, and other uses. Located on the Tennessee River, the reservoir is 53 miles long and extends through parts of four counties in Alabama, Mississippi, and Tennessee. TVA originally acquired 63,625 acres for reservoir construction. Of that, 33,472 acres are covered by water during normal summer pool. Subsequent transfers of land by TVA for economic, industrial, residential, or public recreation development have resulted in a current balance of 17,400 acres of TVA land on Pickwick Reservoir. TVA is considering updating a 1981 land allocation plan and allocating additional lands that were not considered in the 1981 plan. Because of increasing development pressure, the current plan may not reflect current demands for land and may need to be updated to reflect community needs and current TVA policies.

TVA develops reservoir land management plans to help in the management of reservoir properties in its custody. These plans allocate lands to various categories of uses, which are then used to guide the types of activities that will be considered on each tract of land. By providing a clear statement of how TVA intends to manage land and by identifying land for specific uses, TVA hopes to balance conflicting uses and facilitate decision making for use of its land. Each plan is submitted for approval by the TVA Board of Directors and adopted as policy to provide for long-term land stewardship and accomplishment of TVA responsibilities under the 1933 TVA Act. Since 1999, plans have been finalized for the following reservoirs, Boone, Melton Hill, Tellico, and Tims Ford, all in Tennessee. Plans are currently underway for the four Bear Creek Reservoirs, Alabama, Cherokee and Norris Reservoirs, Tennessee; and Guntersville Reservoir, Alabama and Tennessee.

In developing the Pickwick plan, it is anticipated that lands currently committed to a specific use would be allocated to that current use unless there is an overriding need to change. Commitments include transfers, easements, leases, licenses, contracts, utilities, outstanding land rights, or developed recreation areas. All lands under TVA control would be allocated in the planning process. Alternative approaches to land allocation would be analyzed in the EIS. The No Action alternative would continue to rely on the existing 1981 Pickwick Reservoir Land Management Plan. The 1981 plan allocates land into 16 categories, including natural areas, forest and wildlife management, recreation, and industrial sites. The action alternatives would address options for allocating reservoir lands into seven land use zones. It is anticipated that the majority of the lands would be allocated to natural resource management and sensitive resource protection categories. However, existing uses would be grandfathered by allocating small acreages to industrial and commercial development, recreation, and residential access.

This EIS will tier from TVA's Final EIS, Shoreline Management Initiative: An Assessment of Residential Shoreline Development Impacts in the Tennessee Valley (November 1998). That EIS evaluated alternative policies for managing residential uses along TVA's reservoir system, including Pickwick Reservoir.

This notice publishes the intent of TVA to prepare an EIS for the Pickwick Reservoir Land Management Plan. TVA anticipates that the EIS will include discussion of the potential effects of alternatives on the following resources and issue areas: aquatic ecology, water quality, wetlands, terrestrial ecology, cultural resources, noise, recreation, visual resources, threatened and endangered species, and navigation. Other issues which may be discussed, depending on the potential impacts of the alternatives, include floodplains, prime farmland, and air quality.

Public Participation

TVA is interested in receiving comments on the scope of issues to be addressed in the EIS. The participation of affected Federal, state, and local agencies and Indian tribes, as well as other interested persons is invited. Further, pursuant to the National Historic Preservation Act, TVA is interested in receiving comments on the potential of the proposed land allocation plan to affect historic properties. Written comments on the scope of the EIS should be received on or before June 1, 2001.

Comments may also be provided in an oral or written format at one of the following public meetings:

• Thursday, March 29, 2001, 6 to 8 p.m. CST, Tishomingo County High School, U.S. 72 West, Iuka, Mississippi;

• Tuesday, April 3, 2001, 6 to 8 p.m. CST, Adams Mark Hotel, 939 Ridge Lake Boulevard (Interstate 240 at Poplar Street), Memphis, Tennessee;

• Friday, April 6, 2001, 6 to 8 p.m. CST, Pickwick Landing State Park, Pickwick Dam, Tennessee.

• Thursday, April 12, 2001, 6 to 8 p.m. CST, Environmental Research Center Auditorium, TVA Reservation, Muscle Shoals, Alabama;

Upon consideration of the scoping comments, TVA will develop alternatives and identify important environmental issues to be addressed in the EIS. Following analysis of the environmental consequences of each alternative, TVA will prepare a draft EIS for public review and comment, and distribute it to commenting agencies and the public. Notice of availability of the draft EIS will be published in the Federal Register. Any meetings that are scheduled to receive comments on the draft EIS will be announced by TVA.

Dated: March 20, 2001.
Kathryn J. Jackson,
Executive Vice President, River System Operations & Environment.

[FR Doc. 01-7451 Filed 3-23-01; 8:45 am]

BILLING CODE 8120-08-U